ENVIRONMENTAL PROTECTION AGENCY

[ER-FRL-6657-9]

Environmental Impact Statements; Notice of Availability

Responsible Agency: Office of Federal Activities, General Information (202) 564-7167 or http://www.epa.gov/compliance/nepa/.

Weekly receipt of Environmental Impact Statements

Filed November 15, 2004 through November 19, 2004

Pursuant to 40 CFR 1506.9.

EIS No. 040536, Final Supplement, GSA, TX, Del Rio Port of Entry (POE), Increased Security Measures Associated with Phase II Expansion, Supplement to the 1992 Del Rio Border Patrol Station, Del Rio, Val Verde County, TX, Wait Period Ends: December 27, 2004, Contact: Lisa Schaub (817) 978-4233.

EIS No. 040537, Final EIS, FHW, WI, US-12 Highway Corridor Project, Improvement from 1H90/94 at Lake Delton south to Ski Hi Road, Selected Preferred Alternative, Funding and U.S. Army COE Section 404 Permit Issuance, Sauk County, WI, Wait Period Ends: December 27, 2004, Contact: Johnny Gerbitz (608) 829-7500.

EIS No. 040538, Draft EIS, FAA, FL, Panama City-Bay County International Airport (PFN), Proposed Relocation to a New Site, NPDES Permit and U.S. Army COE Section 404 Permit, Bay County, FL, Comment Period Ends: January 21, 2005, Contact: Virginia Lane (407) 812-6331 ext 129.

EIS No. 040539, Final EIS, FHW, TX, Eastern Extension of the President George Bush Turnpike (PGBT) from TX-78 to I-30, New Controlled Access Tollway Construction at a New Location, Cities of Garland, Sachse, Rowlett and Dallas, Dallas County, TX, Wait Period Ends: December 27, 2004, Contact: Dean Majzoub (512) 536-5955.

EIS No. 040540, Draft EIS, FRC, TX, Cheniere Corpus Christi Liquefied Natural Gas (LNG) Project, To Provide Facilities for the Importation, Storage and Vaporization of Liquefied Natural Gas, Nueces and San Patricio Counties, TX, Comment Period Ends: January 10, 2005, Contact: Thomas Russo (866) 208-3372.

EIS No. 040541, Draft EIS, FHW, MS, I-69 Section of Independent Utility # 11 Project, Construction of Multi-Lane, Interstate Highway from Benoit to Robinsonville, U.S. Army COE Section 404 Permit, Mississippi River Bridge, Bolivar, Coahoma, Tunica and Sunflower Counties, MS, Comment Period Ends: January 10, 2005, Contact: Cecil W. Vick, Jr. (601) 965-4217.

EIS No. 040542, Draft EIS, AFS, OR, Rogue River-Siskiyou National Forest, Special Use Permits for Outfitter and Guide Operations on the Lower Rogue and Lower Illinois Rivers, Gold Beach Ranger District, Rogue River-Siskiyou National Forest, Curry County, OR, Comment Period Ends: January 10, 2005, Contact: Jim Heck (541) 858-2303. This document is available on the Internet at: http://wwwtest.fs.fed.us/r6/rogue-siskiyou/projects/special-use/outfitter-rogue-illinois-river/rr-deis-ll-04-04.pdf.

Amended Notices

EIS No. 040472, Draft EIS, AFS, CO, Village at Wolf Creek Project, Application for Transportation and Utility Systems and Facilities, Proposed Development and Use of Roads and Utility Corridors Crossing, National Forest System Lands to Access 287.5 Acres of Private Property Land, Mineral County, CO, Comment Period Ends: December 06, 2004, Contact: Robert Dalrymple (719) 852-5941. Revision of FR Notice Published on 10/08/04: CEQ Comment Period Ending 11/22/2004 has been Extended to 12/06/2004.

EIS No. 040500, Draft EIS, FHW, UT, Brown Park Road Project, Reconstruction (Paving) and Partial Re-alignment from Red Creek to Colorado State Line, Diamond Mountain Resource Management Plan Amendment (BLM), U.S. Army COE Section 404 Permit, Daggett County, UT, Comment Period Ends: January 10, 2005, Contact: Gregory S. Punske, P.E. (801) 963-0182. Revision of FR Notice Published on 10/29/2004: CEQ Comment Period Ending on 12/17/2004 has been Extended to 01/10/2005.

EIS No. 040532, Final EIS, FHW, IN, IN-25 Transportation Corridor Improvements from I-65 Interchange to U.S. 24, Funding, Right-of-Way and U.S. Army COE Section 404 Permit Issuance, Hoosier Heartland Highway, Tippecanoe, Carroll and Cass Counties, IN, Wait Period Ends: December 27, 2004, Contact: Matt Fuller (317) 226-5234. Revision of FR Notice Published on 11/19/2004: CEQ Wait Period Ending 12/20/2004 Corrected to12/27/2004.

EIS No. 040533, Final EIS, FHW, WA, WA-104/Edmonds Crossing Project, Connecting Ferries, Bus and Rail, Funding, NPDES Permit and COE Section 10 and 404 Permit, City of Edmonds, Snohomish County, WA, Wait Period Ends: December 20, 2004, Contact: Peter Eun (360) 753-9551. Revision of FR Notice published on 11/19/2004: The Department of Transportation's Federal Highway Administration and Federal Transit Administration are Joint Lead Agencies for the above Project. Also, Correction to Contact Person Telephone Number.

Dated: November 22, 2004.
Ken Mittelholtz,
Environmental Protection Specialist, Office of Federal Activities.

[FR Doc. 04-26160 Filed 11-24-04; 8:45 am]

BILLING CODE 6560-50-P